DEPARTMENT OF ENERGY

Federal Energy Regulatory Commission

[Project No. 2169-020]

Alcoa Power Generating, Inc. (APGI); Notice of Settlement Agreement and Soliciting Comments

May 14, 2004.

Take notice that the following settlement agreement has been filed with the Commission and is available for public inspection.

a. Type of Application: Settlement agreement.

b. Project No.: 2169-020.

c. Date Filed: May 7, 2004.

d. Applicant: Alcoa Power Generating, Inc. (APGI).

e. Name of Project: Tapoco Project.

f. Location: On the Little Tennessee and Cheoah Rivers in Graham and Swain Counties, North Carolina and Blount and Monroe Counties, Tennessee. The project affects Federal lands.

g. Filed Pursuant to: Rule 602 of the Commission's Rules of Practice and Procedure, 18 CFR 385.602.

h. Applicant Contact: Mr. Norman L. Pierson, Property and Relicensing Manager, Alcoa Power Generation Inc., Tapoco Division, 300 North Hall Road, Alcoa, TN 37701-2516, (865) 977-3326.

i. FERC Contact: Randy Yates at (770) 452-3784, or lorance.yates@ferc.gov.

j. Deadline for Filing Comments: The deadline for filing comments on the Settlement Agreement is 20 days from the date of this notice. The deadline for filing reply comments is 30 days from the date of this notice. All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. See 18 CFR 385.2001(a)(1)(iii) and the instructions of the Commission's Web site (http://www.ferc.gov) under the “e-filing” link.

k. Alcoa Power Generating, Inc. (APGI) filed the Comprehensive Settlement Agreement on behalf of itself and 22 other stakeholders. The purpose of the Settlement Agreement is to resolve, among the signatories, all issues related to APGI's pending Application for a New License for the Tapoco Hydroelectric Project. The issues resolved through the settlement relate to project operations; modifying impoundment rule curves; minimum flows; fish reintroductions; development of vegetation and rare, threatened and endangered species management plans; additions and improvements to recreation facilities; certain land use issues; and cultural resources management. APGI requests that the Commission approve the Settlement Agreement and incorporate proposed license articles outlined in the Settlement Agreement into a new 40-year license for the project.

l. A copy of the Settlement Agreement is available for review at the Commission in the Public Reference Room or may be viewed on the Commission's Web site at http://www.ferc.gov, using the “e-Library” link. Enter the docket number, excluding the last three digits in the docket number field to access the document. For assistance, contact FERC Online Support at FERCOnlineSupport@ferc.gov or toll-free at 1-866-208-3676, or for TTY, (202) 502-8659. A copy is also available for inspection and reproduction at the address in item h above.

Register online at http://www.ferc.gov/esubscribenow.htm to be notified via e-mail of new filings and issuances related to this or other pending projects. For assistance, contact FERC Online Support.

Magalie R. Salas,
Secretary.

[FR Doc. E4-1205 Filed 5-21-04; 8:45 am]

BILLING CODE 6717-01-P